DEPARTMENT OF THE INTERIOR

Bureau of Land Management

[LLIDC02000-L16100000-DR0000-LXSS034D0000-4500006432]

Notice of Availability of the Record of Decision for the Cottonwood Field Office Resource Management Plan/Environmental Impact Statement, and Notice of Intent To Prepare a Supplemental Environmental Impact Statement for the Cottonwood Field Office Resource Management Plan

AGENCY: Bureau of Land Management, Interior.

ACTION: Notice of availability and notice of intent.

SUMMARY: The Bureau of Land Management (BLM) announces the availability of the Record of Decision (ROD)/Approved Resource Management Plan (RMP) for the Cottonwood Field Office located in northern Idaho. The Idaho State Director signed the ROD on December 21, 2009, excluding decisions regarding domestic sheep and goat grazing to be addressed in a Supplemental Environmental Impact Statement (EIS). The signed ROD constitutes the final decision of the BLM for all other management direction and makes the Approved RMP effective immediately.

The BLM Cottonwood Field Office, Cottonwood, Idaho, intends to prepare a Supplemental EIS for the Cottonwood RMP to analyze the impacts of domestic sheep and goat grazing in four allotments that overlap or occur in the vicinity of bighorn sheep habitat. These four allotments are located along the Salmon River, east of Riggins, Idaho, in Idaho County. The BLM will provide opportunities for public participation upon publication of the Draft Supplemental EIS.

DATES: The ROD includes several implementation-level decisions regarding motorized travel routes. The decisions identifying routes of travel within designated areas for motorized vehicles are implementation decisions and are appealable under 43 CFR Part 4. These decisions are contained in the Travel and Transportation section of the Approved RMP. Any party adversely affected by the proposed route identifications may appeal within 30 days of publication of this Notice of Availability pursuant to 43 CFR, Part 4, Subpart E. The appeal should state the specific route(s), as identified in Appendix A of the Approved RMP, on which the decision is being appealed. The appeal must be filed with the Cottonwood Field Manager at the above listed address. Please consult the appropriate regulations (43 CFR, Part 4, Subpart E) for further appeal requirements.

ADDRESSES: Copies of the ROD/Approved RMP are available upon request from the Field Manager, Cottonwood Field Office, Bureau of Land Management, 1 Butte Drive, Cottonwood, Idaho 83522, or at the following Web site: http://www.blm.gov/id/st/en/fo/cottonwood/planning/cottonwood_resource.html. Copies of the ROD/Approved RMP are available for public inspection at the Cottonwood Field Office, 1 Butte Drive, Cottonwood, Idaho. Interested persons may also review the ROD/Approved RMP at the following Web site: http://www.blm.gov/id/st/en/fo/cottonwood/planning/cottonwood_resource.html.

Appeals must be filed with the Field Manager of the Cottonwood Field Office at 1 Butte Drive, Cottonwood, Idaho 83522.

FOR FURTHER INFORMATION CONTACT: For further information contact the Cottonwood Field Office, telephone (208) 962-3245; address 1 Butte Drive, Cottonwood, Idaho 83522.

SUPPLEMENTARY INFORMATION: The Cottonwood RMP was developed with broad public participation through a four-year collaborative planning process in accordance with the Federal Land Policy and Management Act of 1976, as amended, and the National Environmental Policy Act of 1969, as amended. This RMP addresses management on approximately 130,000 acres of public land in the Cottonwood Field Office. The Cottonwood RMP is designed to achieve or maintain desired future conditions developed through the planning process. It includes a series of management actions to meet the desired resource conditions for forest, upland, and riparian vegetation; wildlife habitats; cultural and visual resources; and recreation.

The BLM received five protest letters on the Proposed RMP/Final EIS. The BLM Director granted only those protest issues related to domestic sheep grazing within bighorn sheep habitat and remanded this specific portion of the RMP back to the BLM Idaho State Office for further analysis. No inconsistencies with State or local plans, policies, or programs were identified during the Governor's consistency review of the Proposed RMP/Final EIS. As a result, with the exception of decisions regarding domestic sheep and goat grazing, the approved Cottonwood RMP is essentially the same as Alternative B in the Proposed RMP/Final EIS published in June 2008, and only minor editorial modifications were made in preparing the ROD and Approved RMP.

By this Notice, the BLM, Cottonwood Field Office is announcing its intent to prepare a Draft Supplemental EIS to analyze the impacts of domestic sheep and goat grazing in four allotments that overlap or occur in the vicinity of bighorn sheep habitat along the Salmon River east of Riggins, Idaho. The area has been grazed historically by domestic sheep and goats and overlaps with bighorn sheep habitat. The BLM will be inviting other government entities (Federal, State, Tribal and local), with special expertise or jurisdiction, to be cooperators during preparation of the Supplemental EIS. Upon completion, this Draft Supplemental EIS will be released for public review and comment.

Thomas H. Dyer,
Idaho State Director.

Authority: 40 CFR 1506.6, 1502.9, and 1508.22.

[FR Doc. 2010-5258 Filed 3-11-10; 8:45 am]

BILLING CODE 4310-GG-P